DEPARTMENT OF AGRICULTURE

Agricultural Marketing Service

[DA-00-05B]

United States Standards for Grades of Swiss Cheese, Emmentaler Cheese

AGENCY: Agricultural Marketing Service, USDA

ACTION: Notice.

SUMMARY: The Agricultural Marketing Service is giving notice of the availability of revisions to the voluntary United States Standards for Grades of Swiss Cheese, Emmentaler Cheese. The changes will increase the allowable eye size range in Grade A Swiss cheese and define an allowable eye size range in Grade B Swiss cheese; remove the block height recommendation for cheeses produced in rindless blocks; add more clarity to the color requirements for grades A and B Swiss cheese; correct minor errors that currently exist in the tables; and make minor editorial changes that will make the standard more uniform in appearance and easier to use.

EFFECTIVE DATE: This notice is effective February 22, 2001.

ADDRESSES: The revised standards are available from Duane R. Spomer, Chief, Dairy Standardization Branch, Dairy Programs, Agricultural Marketing Service, U.S. Department of Agriculture, Room 2746, South Building, STOP 0230, P.O. Box 96456, Washington, DC 20090-6456; or at http://www.ams.usda.gov/dairy/stand.htm

FOR FURTHER INFORMATION CONTACT: Charlsia Fortner, Dairy Products Marketing Specialist, Dairy Standardization Branch, AMS/USDA/Dairy Programs, Room 2746-S, P.O. Box 96456, Washington, DC 20090-6456, (202) 720-7473.

SUPPLEMENTARY INFORMATION: Section 203(c) of the Agricultural Marketing Act of 1946, as amended, directs and authorizes the Secretary of Agriculture “to develop and improve standards of quality, condition, quantity, grade, and packaging and recommend and demonstrate such standards in order to encourage uniformity and consistency in commercial practices * * *.” AMS is committed to carrying out this authority in a manner that facilities the marketing of agricultural commodities and to making copies of official standards available upon request. U.S. Standards for Grades of Swiss Cheese, Emmentaler Cheese no longer appear in the Code of Federal Regulations (CFR); however, they are maintained by the USDA/AMS/Dairy Programs.

When Swiss cheese is officially graded, the USDA voluntary standards governing the grading of manufactured or processed dairy products are used. The Agency believes the revised standards will accurately identify quality characteristics in Swiss cheese. AMS is revising the United States Standards for Grades of Swiss Cheese, Emmentaler Cheese using the procedures it published in the August 13, 1997, Federal Register and that appear in part 36 of Title 7 of the CFR (7 CFR part 36).

The notice, with a request for comments on the proposed changes, was published in the Federal Register on July 20, 2000 (65 FR 45018-45032). A correction notice was published on August 14, 2000 (65 FR 45933).

The grade standards were last revised in September 1987. AMS has reviewed this standard and discussed possible changes with the dairy industry. The Wisconsin Dairy Products Association (WDPA) and the Wisconsin Cheese Makers Association (WCMA), trade associations representing the Swiss cheese industry, provided specific recommendations. The American Dairy Products Institute (ADPI), another trade association representing the Swiss cheese industry, supported these specific recommendations, organized a meeting of Swiss cheese manufacturers and buyers to discuss changes to the U.S. Grade Standards, and provided specific information supporting the changes suggested by WDPA and WCMA.

Proposed by WDPA and WCMA and supported by ADPI:

• Allow smaller eyes in Grade A Swiss cheese; and

• Remove block size recommendations for rindless Swiss cheese.

Dairy Programs, Agricultural Marketing Service, proposed the following:

• Lower the minimum eye size requirement for Grade A Swiss cheese as suggested by the trade associations and include provisions to clarify uniformity of eye size. Also, Dairy Programs proposed to include the same eye size range for Grade B Swiss cheese;

• Remove the block height recommendation for rindless Swiss cheese as suggested by the trade associations;

• Provide a more descriptive representation of acceptable color for Grades A and B Swiss cheese by defining the range of acceptable color as white to light yellow;

• Correct errors in the table that summarizes eye and texture characteristics of Swiss cheese; and

• Reformat information in these standards to make the standards easier to use and provide a uniform appearance with other U.S. Grade Standards.

AMS published a notice in the Federal Register with an outline of the specific proposed changes and provided for a comment period of 60 days, which ended September 18, 2000. Forty-three comments were received during the comment period, four from dairy trade associations, one from the Government of Switzerland, and 38 from individuals.

The National Milk Producers Federation (NMPF), ADPI, WCMA, and WDPA were the trade associations that provided comments. These associations represent dairy producers and Swiss cheese manufacturers and buyers, and each expressed general support for the proposed changes. However, three of the associations disagreed with at least one provision in the proposed grade standards.

Three associations objected to the inclusion of the relatively uniform eye size definition proposed by AMS. One association stated that the proposed eye size range would not provide the flexibility initially requested by Swiss cheese manufacturers, and that eye size uniformity should be a quality issue between buyer and seller rather than incorporated into the standard. Another association stated that the requirement that cheese be properly set and contain eyes that are relatively uniform in size and distribution is sufficient and that it was not necessary to include a definition of relatively uniform eye size. This trade association contends that any defined range of eye size is impractical and unrealistic, especially when applied to a 200-pound block of cheese.

In considering this objection, AMS notes that the current U.S. standards address uniformity in the size of eyes in U.S. Grade A Swiss cheese by establishing a narrow 3/16 inch range into which a majority of the eyes must fall. When the majority of the eyes are outside this range, the cheese does not qualify for the U.S. Grade A designation. Furthermore, if a majority of the eyes are smaller than the established minimum, the cheese is considered to be “small eyed” and would not meet the requirements for U.S. Grade A.

AMS proposed to widen the size of eyes in U.S. Grade A Swiss and allow for eyes within a broader 7/16 inch range. By incorporating the industry recommendation and expanding the sizes of eyes allowable for Grade A Swiss, the current definition for small eyed was no longer appropriate because cheese falling within the small eyed range could now qualify for U.S. Grade A. In light of this, AMS believed that it was important that the revised standards include a definition for “relatively uniform eye size.”

AMS agrees that eye size is a quality issue and that Swiss cheese must be properly set to obtain a variety of desirable characteristics including cheese that contains eyes that are relatively uniform in size. U.S. grade standards are intended to describe quality attributes of dairy products, therefore these eye size considerations should be included in the Swiss cheese grade standards. In the existing standard, this was addressed by a narrow range of allowable eye sizes. In the proposed changes, this would be accomplished by addition of a definition for “relatively uniform eye size” that allows for the expanded range and reinforces that cheese be properly set by specifying that a majority of the eyes fall within a narrower ¼ inch range. The revision incorporates the flexibility requested by Swiss cheese manufacturers and buyers by expanding the size of eyes allowable for Grade A cheese and that the inclusion of a definition for “relatively uniform” would eliminate confusion when communicating these standards among buyers and sellers and when graders apply these standards to Swiss cheese samples. These provisions are also applicable to Swiss cheese regardless of size. For these reasons, AMS is maintaining the “relatively uniform eye size” definition as proposed.

WCMA suggested a change to the proposal that would provide clarity. They requested that Section (h) of the Explanation of Terms section be further reworded. The Section (h) as proposed by USDA defined the descriptor “slight,” “large eyed” and “small eyed.” WCMA suggests combining “slight” with the terms “large eyed” and “small eyed,” thus defining only “slight large eyed” and “slight small eyed,” and eliminating the need to define “slight.” USDA agrees this results in more straightforward definitions of the two terms. Therefore, USDA is revising the relevant portion of Section (h) of the Explanation of Terms as follows:

(h) With respect to eyes and texture as it relates to large eyed and small eyed:

(1) Slight large eyed.—Majority of the eyes more than 13/16 inch but less than 1 inch.

(2) Slight small eyed.—Majority of the eyes less than ⅜ inch but more than ⅛ inch.

(3) Relatively uniform eye size—The majority of the eyes fall within a ¼ inch range.

One comment was received from the Federal Office for Agriculture in Bern, Switzerland. This office expressed concern that the proposed revisions to the Swiss cheese grade standards are not congruent with the traditional methods for producing Emmentaler cheese in Switzerland. They also note differences between the U.S. standards and a Codex Alimentarius Individual Standard for Emmentaler, which was issued in 1967. This international standard states that an acceptable eye size for Grade A Emmentaler will be between 1 and 3 cm. Further, the international standard indicates acceptable color as “ivory to light yellow,” instead of the U.S. standards' “white to light yellow.”

Codex standards are maintained for the purpose of facilitating international trade by promoting honest practices in the sale of food and providing guidance to consumers in making food choices. The 1967 Emmentaler cheese standard is among the individual cheese standards that are currently under revision by the Codex Alimentarius Committee. The Agricultural Marketing Act of 1946, as amended, directs and authorizes the Secretary of Agriculture “to develop and improve standards of quality, condition, quantity, grade, and packaging, and recommend and demonstrate such standards in order to encourage uniformity and consistency in commercial practices * * *.” U.S. Standards establish agreed-upon quality parameters and help keep our national marketing system for dairy products operating in an orderly and efficient manner.

The changes being made to the U.S. standards bring it into much closer alignment with the Codex standard than previous standards, however, some differences are appropriate to address quality issues with Swiss cheese, such as bleaching. Bleaching is allowed in the manufacture of Swiss cheese in the United States, therefore a white color is appropriate for U.S. Grade A Swiss cheese under the U.S. standards. Accordingly, USDA is retaining the proposed changes to the current U.S. standards because the standards are intended to achieve different objectives in the marketplace.

Thirty-seven comments were received from individuals who may have read or heard about USDA's proposed changes to the Swiss cheese grade standards through widespread media coverage. Eleven of these commenters supported an increased range of eye sizes that would allow a smaller eye in Grade A Swiss cheese. Nine commenters did not support this change. Seventeen commenters did not express an opinion on the proposed changes to the Swiss cheese grade standards, but commented instead on larger issues generated from information presented by the news media. These issues are not under consideration by AMS in conjunction with the Swiss cheese grade standards. Also, many of those who commented believed that USDA was promulgating mandatory regulations to direct the eye size in Swiss cheese. As stated earlier in this notice, U.S. Standards for Grades of Swiss Cheese, Emmentaler cheese are strictly voluntary. Cheesemakers may choose to utilize USDA grading and inspection services, but are under no obligation to do so. These voluntary grade standards are established to promote fair and equitable marketing conditions within the dairy industry. The proposed changes to the grade standards for Swiss cheese would potentially expand, rather than limit, consumer choice among high-quality Swiss cheeses on the market.

Accordingly, further changes to the notices revising the United States Standards for Grades of Swiss Cheese, Emmentaler Cheese as published in the Federal Register at 65 FR 45018 on July 20, 2000 and 65 FR 49533 on August 14, 2000, are made as described above.

The revised standards are available either through the above address or by accessing AMS’ Home Page on the Internet at http://www.ams.usda.gov/dairy/stand.htm.

Authority: 7 U.S.C. 1621-1627.

Dated: January 17, 2001.
Kathleen A. Merrigan,
Administrator, Agricultural Marketing Service.

[FR Doc. 01-2017 Filed 1-22-01; 8:45 am]

BILLING CODE 3410-02-P